DEPARTMENT OF THE INTERIOR

National Park Service

[N6945; NPS-WASO-NAGPRA-NPS0042052; PPWOCRADN0-PCU00RP14.R50000]

Notice of Inventory Completion: University of California, Berkeley, Berkeley, CA

AGENCY: National Park Service, Interior.

ACTION: Notice.

SUMMARY: In accordance with the Native American Graves Protection and Repatriation Act (NAGPRA), the University of California, Berkeley has completed an inventory of human remains and associated funerary objects and has determined that there is a cultural affiliation between the human remains and associated funerary objects and Indian Tribes or Native Hawaiian organizations in this notice.

DATES: Repatriation of the human remains and associated funerary objects in this notice may occur on or after March 25, 2026.

ADDRESSES: Send written requests for repatriation of the human remains and associated funerary objects in this notice to Alexandra Lucas, Government and Community Relations, Office of the Chancellor, University of California, Berkeley, 200 California Hall, Berkeley, CA 94720, email nagpra-ucb@berkeley.edu.

SUPPLEMENTARY INFORMATION: This notice is published as part of the National Park Service's administrative responsibilities under NAGPRA. The determinations in this notice are the sole responsibility of the University of California, Berkeley and additional information on the determinations in this notice, including the results of consultation, can be found in its inventory or related records. The National Park Service is not responsible for the determinations in this notice.

Abstract of Information Available

In 1907, ancestral remains representing at least one individual and 13 associated funerary objects were removed from Puerta La Cruz, Warner's Ranch, San Diego County, CA by Thomas T. Waterman, a student of Alfred Kroeber, and accessioned into the University of California Museum of Anthropology (today the Phoebe A Hearst Museum of Anthropology). The 13 funerary objects are ground stone and worked stone.

Cultural Affiliation

Based on the information available and the results of consultation, cultural affiliation is clearly identified by the information available about the human remains and associated funerary objects described in this notice.

Determinations

The University of California, Berkeley has determined that:

• The human remains described in this notice represent the physical remains of one individual of Native American ancestry.

• The 13 objects described in this notice are reasonably believed to have been placed intentionally with or near individual human remains at the time of death or later as part of the death rite or ceremony.

• There is a connection between the human remains and associated funerary objects described in this notice and the Pala Band of Mission Indians.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after March 25, 2026. If competing requests for repatriation are received, the University of California, Berkeley must determine the most appropriate requestor prior to repatriation. Requests for joint repatriation of the human remains and associated funerary objects are considered a single request and not competing requests. The University of California, Berkeley is responsible for sending a copy of this notice to the Indian Tribes and Native Hawaiian organizations identified in this notice and any other consulting parties.

Authority: Native American Graves Protection and Repatriation Act, 25 U.S.C. 3003, and the implementing regulations, 43 CFR 10.10.

Dated: February 13, 2026.
Melanie O'Brien,
Manager, National NAGPRA Program.

[FR Doc. 2026-03569 Filed 2-20-26; 8:45 am]

BILLING CODE 4312-52-P